NATIONAL AERONAUTICS AND SPACE ADMINISTRATION

[Notice (19-037)]

Interagency Operations Advisory Group (IOAG)—Industry Exchange; Webcast

AGENCY: National Aeronautics and Space Administration.

ACTION: Notice of webcast.

SUMMARY: In accordance with The National Aeronautics and Space Act, The National Aeronautics and Space Administration (NASA) announces a webcast for U.S. industry on the Interagency Operations Advisory Group (IOAG)—Industry Exchange.

DATES: Monday, July 15, 2019, 1 p.m.-3 p.m., Eastern Time.

ADDRESSES: Virtual. Participation information available upon approval of RSVP.

FOR FURTHER INFORMATION CONTACT: Ms. Barbara Adde, Director of Policy and Strategic Communications, Space Communications and Navigation Program Office, NASA Headquarters, Washington, DC 20546, (202) 358-1912 or Barbara.adde@nasa.gov.

SUPPLEMENTARY INFORMATION: NASA is pleased to invite U.S. space industry to participate in a webcast on Monday, July 15, 2019 from 1:00-3:00 p.m. ET. The purpose of this meeting is to share the potential benefits of involvement with the IOAG and receive feedback on whether companies have an interest in pursuing this interaction. The Interagency Operations Advisory Group (IOAG) provides a forum for identifying common needs across multiple international space agencies for coordinating space communications policy, high-level procedures, technical interfaces, and other matters related to interoperability and space communications. Following the webcast, you will be asked to complete a survey about your interest in discussing this opportunity further with NASA. On Tuesday, September 17, 2019, the IOAG will hold an Exchange with international industry to discuss interoperability and the future challenges of space operations with a focus on the provision of communications services. Companies that expressed interest in exploring a relationship with the IOAG via the survey and follow up meetings with NASA will be invited to participate in the international meeting hosted by the United Kingdom Space Agency (UKSA) at the Goonhilly Earth Station. Participation may be in person or remotely. To learn more about the IOAG-Industry Exchange and the IOAG's membership, working groups, and responsibilities please visit https://www.ioag.org/About/workshop.aspx. Information on how to join the webcast will be sent to the email address provided in the RSVP below.

Nanette Smith,
NASA Federal Register Liaison Officer.

[FR Doc. 2019-13513 Filed 6-25-19; 8:45 am]

BILLING CODE 7510-13-P